DEPARTMENT OF TRANSPORTATION

Office of the Secretary

Aviation Proceedings, Agreements Filed the Week Ending September 10, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0167.

Date Filed: September 6, 2011.

Parties: Members of the International Air Transport Association.

Subject: PTC COMP Mail Vote 690 Resolution 024d Currency Names, Codes, Rounding Units and Acceptability of Currencies—Kyrgyzstan (Memo PTC COMP 1647). Intended Effective Date: 1 November 2011.

Renee V. Wright,
Program Manager, Docket Operations, Federal Register Liaison.

[FR Doc. 2011-28484 Filed 11-2-11; 8:45 am]

BILLING CODE 4910-9X-P